DEPARTMENT OF THE INTERIOR

National Park Service

[NPS-WASO-NRNHL-DTS#-29754; PPWOCRADI0, PCU00RP14.R50000]

National Register of Historic Places; Notification of Pending Nominations and Related Actions

AGENCY: National Park Service, Interior.

ACTION: Notice.

SUMMARY: The National Park Service is soliciting comments on the significance of properties nominated before February 1, 2020, for listing or related actions in the National Register of Historic Places.

DATES: Comments should be submitted by March 13, 2020.

ADDRESSES: Comments may be sent via U.S. Postal Service and all other carriers to the National Register of Historic Places, National Park Service, 1849 C St. NW, MS 7228, Washington, DC 20240.

SUPPLEMENTARY INFORMATION: The properties listed in this notice are being considered for listing or related actions in the National Register of Historic Places. Nominations for their consideration were received by the National Park Service before February 1, 2020. Pursuant to Section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

ARIZONA

Maricopa County

McCornack, Colonel Willard H., House, 85 North Country Club Dr., Phoenix, SG100005074

FLORIDA

Duval County

Mt. Calvary Baptist Church, (African American Architects in Segregated Jacksonville, 1865-1965 MPS), 301 Spruce St., Jacksonville, MP100005087

Durkee Gardens Historic District, (African American Architects in Segregated Jacksonville, 1865-1965 MPS), Bound by Myrtle Ave., 13th St. West, Payne Ave., Wilcox St. and 8th St. West, Jacksonville, MP100005088

ILLINOIS

Kane County

International Harvester Showroom and Warehouse, 6-12 North River, Aurora, SG100005050

MASSACHUSETTS

Bristol County

Somerset Village Historic District, Avon St., Borland Ave., Cherry St., Church St., Clark St., Dublin St., High St., Main St., Maple St., Marsh St., Old Colony Ave., Palmer St., Peterson St., Pierce Ln., Pleasant St., School St., Simms Ave., and South St., Somerset, SG100005075

Brayton Homestead, 159 Brayton Ave., Somerset, SG100005077

Hampden County

Thompson, Jacob, House, 7 Main St., Monson, SG100005078

Worcester County

Rural Glen Cemetery, Worcester Rd., Hubbardston, SG100005076

MICHIGAN

Wayne County

Great Lakes Manor, 457 East Kirby St., Detroit, SG100005085

NEBRASKA

Cass County

Plattsmouth High School, (School Buildings in Nebraska MPS), 814 Main St., Plattsmouth, MP100005052

Knox County

Winnetoon Public School, (School Buildings in Nebraska MPS), 308 Jones St., Winnetoon, MP100005053

Lancaster County

Robber's Cave, 925 Robbers Cave Rd., Lincoln, SG100005055

Valley County

Arcadia Township Carnegie Library, (Carnegie Libraries in Nebraska MPS AD), 100 South Reynolds St., Arcadia, MP100005056

OKLAHOMA

Muskogee County

Founders' Place Historic District, Bounded by West Martin Luther King Jr. Blvd., east side of North 12th St., Court St. and east side of North 17th St., Muskogee, SG100005081

Oklahoma County

Capitol Hill General Hospital, 2400 South Harvey Ave., Oklahoma City, SG100005082

Pottawatomie County

State National Bank Building, 2 East Main St., Shawnee, SG100005083

Tulsa County

Fire Station No. 13, 3924 Charles Page Blvd., Tulsa, SG100005084

SOUTH CAROLINA

Charleston County

Brown, Dianna, Antique Shop, 62 Queen St., Charleston, SG100005045

Greenville County

Piedmont Mill Stores Building, 2-8 Main St., Piedmont, SG100005071

Horry County

Sun Fun Motel, 2305 Withers Dr., Myrtle Beach, SG100005046

Laurens County

Clinton Commercial Historic District (Boundary Increase and Decrease), 209-225 West Main St., Clinton, BC100005072

Union County

Clinton Chapel AME Zion Church, (Union MPS), 108 South Enterprise St., Union, MP100005047

VERMONT

Windsor County

Meeting House Farm, (Agricultural Resources of Vermont MPS), 128 Union Village Rd., Norwich, MP100005061

Maple Hill Farm, (Agricultural Resources of Vermont MPS), 65 Maple Hill Rd., Norwich, MP100005062

Fire District No. 2 Firehouse, (Fire Stations of Vermont MPS), 716 Depot St., Chester, MP100005063

A request for removal has been made for the following resources:

NEBRASKA

Custer County

Sargent Bridge, (Highway Bridges in Nebraska MPS), Dawson St. over the Middle Loup R., 1 mi. south of Sargent, Sargent vicinity, OT92000740

Franklin County

Franklin Bridge, (Highway Bridges in Nebraska MPS), NE 10 over the Republican R., 1 mi. south of Franklin, Franklin vicinity, OT92000764

Sarpy County

McCarty-Lilley House, West of Bellevue on Quail Dr., Bellevue vicinity, OT78001712

Additional documentation has been received for the following resources:

ARIZONA

Pima County

West University Historic District (Additional Documentation), Roughly bounded by Speedway Blvd., 6th St., Park and Stone Aves., Tucson, AD80004240

ARKANSAS

Pulaski County

Dunbar, Paul Laurence, School Neighborhood Historic District (Additional Documentation), (Historically Black Properties in Little Rock's Dunbar School Neighborhood MPS), Roughly bounded by Wright Ave., South Chester, South Ringo and West 24th Sts., Little Rock, AD13000789

Central High School Neighborhood Historic District (Boundary Increase 2) (Additional Documentation), Roughly bounded by West 17th St., Dr. Martin Luther King Jr. Dr., Wright Ave., South Summit St. and South Battery St., Little Rock, AD12000320

Union County

El Dorado Commercial Historic District (Additional Documentation), Courthouse Square, portions of Main, Jefferson, Washington, Jackson, Cedar and Locust Sts., El Dorado, AD03000773

MASSACHUSETTS

Essex County

Downtown Salem Historic District (Additional Documentation), (Downtown Salem MRA), Roughly bounded by Church, Central, New Derby, and Washington Sts., Salem, AD83003969

NEBRASKA

Hooker County

Humphrey Archeological Site (Additional Documentation), Address Restricted, Mullen vicinity, AD74001122

NEW YORK

New York County

Church of the Holy Apostles (Additional Documentation), 296-300 9th Ave., New York, AD72000867

TENNESSEE

Greene County

Andrew Johnson National Historic Site (Additional Documentation), Depot and College Sts., Greeneville, AD66000073

VERMONT

Windham County

Canal Street Schoolhouse (Additional Documentation), Canal St., Brattleboro, AD77000103

WEST VIRGINIA

Lewis County

Bennett, Jonathan M., House (Additional Documentation), Court Ave., Weston, AD78002804

(Authority: Section 60.13 of 36 CFR part 60)

Dated: February 6, 2020.
Julie H. Ernstein,
Supervisory Archeologist, National Register of Historic Places/National Historic Landmarks Program.

[FR Doc. 2020-03951 Filed 2-26-20; 8:45 am]

BILLING CODE 4312-52-P